OFFICE OF PERSONNEL MANAGEMENT

Excepted Service

AGENCY: Office of Personnel Management (OPM).

ACTION: Notice.

SUMMARY: This notice identifies Schedule A, B, and C appointing authorities applicable to a single agency that were established or revoked from February 1, 2019 to February 28, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during February 2019.

Schedule B

No Schedule B Authorities to report during February 2019.

Schedule C

The following Schedule C appointing authorities were approved during February 2019.

Agency name | Organization name | Position title | Authorization No. | Effective date
DEPARTMENT OF AGRICULTURE | Office of the Assistant Secretary for Congressional Relations | Senior Congressional Advisor Special Assistant | DA190040 DA190058 | 02/05/2019 02/13/2019
| Food and Nutrition Service | Confidential Assistant | DA190046 | 02/06/2019
| Office of Communications | Press Assistant | DA190047 | 02/22/2019
| Office of Under Secretary for Natural Resources and Environment | Staff Assistant | DA190041 | 02/06/2019
DEPARTMENT OF COMMERCE | Bureau of Industry and Security | Policy Advisor | DC190050 | 02/22/2019
| Office of the Director General of the United States and Foreign Commercial Service and Assistant Secretary for Global Markets | Senior Advisor for United States and Foreign Commercial Service | DC190040 | 02/13/2019
| Office of Policy and Strategic Planning | Policy Assistant | DC190036 | 02/06/2019
| Office of Public Affairs | Speechwriter and Press Assistant | DC190048 | 02/22/2019
| Office of the Chief Financial Officer and Assistant Secretary for Administration | Confidential Assistant | DC190027 | 02/01/2019
| Office of the General Counsel | Special Advisor | DC190038 | 02/14/2019
DEPARTMENT OF DEFENSE | Office of the Under Secretary of Defense (Policy) | Special Assistant (2) | DD190057 DD190060 | 02/22/2019 02/22/2019
DEPARTMENT OF EDUCATION | Office of Legislation and Congressional Affairs | Confidential Assistant | DB190061 | 02/13/2019
| Office of Communications and Outreach | Special Assistant (Supervisory) Confidential Assistant | DB190063 DB190065 | 02/22/2019 02/22/2019
DEPARTMENT OF ENERGY | Office of the Assistant Secretary for Congressional and Intergovernmental Affairs | Special Assistant | DE190053 | 02/04/2019
| Office of the Assistant Secretary for International Affairs | Special Assistant | DE190041 | 02/01/2019
| Office of National Nuclear Security Administration | Director of Congressional Affairs | DE190054 | 02/13/2019
| Office of Cybersecurity, Energy Security and Emergency Response | Special Assistant | DE190062 | 02/27/2019
| Office of General Counsel | Special Assistant | DE190059 | 02/28/2019
| Office of Technology Transition | Senior Advisor | DE190060 | 02/28/2019
| Office of the Secretary | Special Assistant | DE190057 | 02/28/2019
ENVIRONMENTAL PROTECTION AGENCY | Office of Public Affairs | Deputy Associate Administrator for Regional Affairs | EP190022 | 02/04/2019
| Office of the Administrator | Senior Advisor | EP190029 | 02/11/2019
|  | Senior Advisor for Health and Human Safety | EP190016 | 02/26/2019
| Office of the Associate Administrator for Congressional and Intergovernmental Relations | Attorney-Advisor (General) Special Advisor for the Office of Congressional and Intergovernmental Affairs | EP190034 EP190042 | 02/22/2019 02/26/2019
| Office of the Chief Financial Officer | Associate Chief Financial Officer for Policy | EP190033 | 02/22/2019
| Office of the General Counsel | Attorney-Advisor (General) (2) | EP190035 | 02/22/2019
|  |  | EP190038 | 02/28/2019
| Region II—New York, New York | Senior Advisor | EP190040 | 02/28/2019
| Region V—Chicago, Illinois | Senior Advisor for Water | EP190025 | 02/11/2019
FEDERAL ENERGY REGULATORY COMMISSION | Office of Commissioner McNamee Office of the Chairman | Senior Technical Advisor Senior Public Affairs Specialist | DR190003 DR190004 | 02/22/2019 02/28/2019
FEDERAL MINE SAFETY AND HEALTH REVIEW COMMISSION | Federal Mine Safety and Health Review Commission | Confidential Assistant | FR190002 | 02/26/2019
GENERAL SERVICES ADMINISTRATION | Northwest/Arctic Region | Senior Advisor | GS190015 | 02/06/2019
DEPARTMENT OF HEALTH AND HUMAN SERVICES | Office of Administration for Community Living | Advisor | DH190059 | 02/12/2019
| Office of Food and Drug Administration | Director of Communications | DH190063 | 02/22/2019
| Office of Administration for Children and Families | Senior Advisor for Communications Chief of Staff | DH190070 DH190075 | 02/11/2019 02/27/2019
| Office of Intergovernmental and External Affairs | Senior Advisor | DH190025 | 02/27/2019
| Office of the Assistant Secretary for Preparedness and Response | Senior Policy Advisor | DH190054 | 02/28/2019
| Office of the Assistant Secretary for Public Affairs | Advisor—Strategic Communications | DH190068 | 02/15/2019
| Office of the Deputy Secretary | Assistant | DH190067 | 02/11/2019
DEPARTMENT OF HOMELAND SECURITY | Office of Assistant Secretary for Legislative Affairs | Senior Advisor | DM190074 | 02/12/2019
DEPARTMENT OF HOUSING AND URBAN DEVELOPMENT | Office of Fair Housing and Equal Opportunity | Senior Advisor | DU190023 | 02/06/2019
| Office of Field Policy and Management | Special Assistant | DU190024 | 02/06/2019
|  | Regional Administrator | DU190028 | 02/06/2019
| Office of the General Counsel | Senior Counsel (2) | DU190031 | 02/11/2019
|  |  | DU190035 | 02/22/2019
|  | Paralegal Specialist | DU190036 | 02/22/2019
| Office of the Secretary | Special Policy Assistant | DU190037 | 02/26/2019
| Office of Policy Development and Research | Special Policy Advisor | DU190038 | 02/26/2019
DEPARTMENT OF THE INTERIOR | Office of the Assistant Secretary—Land and Minerals Management | Advisor | DI190021 | 02/13/2019
| Office of the Assistant Secretary—Water and Science | Senior Advisor | DI190016 | 02/26/2019
DEPARTMENT OF JUSTICE | Office of Legal Policy | Counsel | DJ190029 | 02/11/2019
| Office of Public Affairs | Media Affairs Specialist | DJ190026 | 02/13/2019
| Executive Office for United States Attorneys | Secretary | DJ190016 | 02/27/2019
DEPARTMENT OF LABOR | Office of Workers Compensation Programs | Chief of Staff | DL190014 | 02/06/2019
| Office of Congressional and Intergovernmental Affairs | Senior Legislative Officer | DL190026 | 02/06/2019
| Office of Employment and Training Administration | Chief of Staff | DL190021 | 02/12/2019
| Office of the Assistant Secretary for Policy | Counsel and Policy Advisor | DL190017 | 02/13/2019
MERIT SYSTEMS PROTECTION BOARD | Office of the General Counsel | Confidential Assistant Special Assistant | MP190004 MP190005 | 02/28/2019 02/28/2019
NATIONAL AERONAUTICS AND SPACE ADMINISTRATION | Office of the Deputy Administrator | Special Assistant | NN190015 | 02/06/2019
NATIONAL TRANSPORTATION SAFETY BOARD | Office of Board Members | Special Assistant | TB190001 | 02/12/2019
OFFICE OF THE UNITED STATES TRADE REPRESENTATIVE | Office of Congressional Affairs | Director of Congressional Affairs | TN190002 | 02/22/2019
SMALL BUSINESS ADMINISTRATION | Office of the Administrator Office of Communications and Public Liaison | Director of Scheduling Digital Director | SB190006 SB190009 | 02/06/2019 02/13/2019
DEPARTMENT OF STATE | Bureau of Economic and Business Affairs | Senior Advisor Special Assistant | DS190025 DS190039 | 02/06/2019 02/27/2019
| Bureau of Education and Cultural Affairs | Special Advisor | DS190030 | 02/04/2019
| Bureau of Public Affairs | Press Secretary | DS190033 | 02/13/2019
| Office of the Chief of Protocol | Protocol Officer | DS190028 | 02/11/2019
DEPARTMENT OF TRANSPORTATION | Office of the Assistant Secretary for Governmental Affairs | Senior Governmental Affairs Officer | DT190033 | 02/01/2019
| Office of the Secretary | Special Assistant for Scheduling and Advance | DT190025 | 02/27/2019
| Office of the Assistant Secretary for Transportation Policy | Special Assistant for Public Engagement | DT190037 | 02/27/2019
| Office of the Assistant Secretary for Budget and Programs | Special Assistant for Budget and Programs | DT190043 | 02/28/2019
DEPARTMENT OF VETERANS AFFAIRS | Office of the General Counsel Office of the Secretary and Deputy | Counselor (Healthcare) White House Liaison | DV190032 DV190033 | 02/01/2019 02/14/2019

The following Schedule C appointing authorities were revoked during February 2019.

Agency name | Organization name | Position title | Request No. | Date vacated
DEPARTMENT OF AGRICULTURE | Farm Service Agency | State Executive Director—Washington | DA170190 | 02/02/2019
| Office of the Assistant Secretary for Congressional Relations | Policy Advisor | DA170167 | 02/02/2019
| Office of the Secretary | Confidential Assistant | DA180115 | 02/08/2019
DEPARTMENT OF COMMERCE | Office of the Chief of Staff | Confidential Assistant | DC180210 | 02/15/2019
| Immediate Office | Special Advisor to the Secretary and Director of the Immediate Office of the Secretary | DC180001 | 02/16/2019
| Office of the Assistant Secretary for Economic Development | Legislative Affairs Specialist | DC190010 | 02/16/2019
| Office of Director General of the United States and Foreign Commercial Service and Assistant Secretary for Global Markets | Senior Advisor | DC170134 | 02/27/2019
OFFICE OF THE SECRETARY OF DEFENSE | Office of the Assistant Secretary of Defense (Homeland Defense and Global Security) | Special Assistant to Deputy Assistant Secretary of Defense (Cyber) | DD170198 | 02/02/2019
| Office of the Secretary of Defense | Advance Officer | DD180027 | 02/02/2019
|  | Protocol Officer | DD180018 | 02/02/2019
| Office of the Under Secretary of Defense (Policy) | Special Assistant to the Deputy Assistant Secretary of Defense (Europe and North Atlantic Treaty Organization) | DD180024 | 02/02/2019
DEPARTMENT OF EDUCATION | Office for Civil Rights | Confidential Assistant | DB170112 | 02/02/2019
| Office of Elementary and Secondary Education | Senior Advisor | DB190006 | 02/02/2019
| Office of the Secretary | Confidential Assistant (Protocol) | DB180041 | 02/02/2019
| Office of the Under Secretary | Executive Director | DB180029 | 02/02/2019
DEPARTMENT OF ENERGY | Office of Assistant Secretary for Electricity Delivery and Energy Reliability | Senior Advisor for External Affairs | DE180024 | 02/02/2019
| Office of Assistant Secretary for Energy Efficiency and Renewable Energy | Special Advisor | DE170169 | 02/02/2019
| Office of Management | Director of Scheduling | DE170124 | 02/02/2019
| Office of Assistant for Congressional and Intergovernmental Affairs | Special Assistant | DE180144 | 02/16/2019
| Office of the Assistant Secretary for Fossil Energy | Senior Advisor | DE180060 | 02/16/2019
| Office of the Secretary | Special Assistant | DE180118 | 02/16/2019
| Office of the Under Secretary for Science | Senior Advisor | DE180048 | 02/16/2019
DEPARTMENT OF HEALTH AND HUMAN SERVICES | Office of the Assistant Secretary for Financial Resources | Deputy Assistant Secretary, Congressional Relations | DH180168 | 02/02/2019
| Office of the Assistant Secretary for Health | Senior Policy Advisor | DH180103 | 02/02/2019
| Office of the General Counsel | Associate Deputy General Counsel | DH180049 | 02/02/2019
| Office of the Secretary | Special Assistant | DH180160 | 02/02/2019
| Office of Administration for Children and Families | Chief of Staff | DH180218 | 02/03/2019
| Office of Health Resources and Services Administration, Office of the Administrator | Policy Advisor | DH170346 | 02/16/2019
DEPARTMENT OF HOUSING AND URBAN DEVELOPMENT | Office of Community Planning and Development | Special Policy Advisor | DU180037 | 02/17/2019
| Office of Congressional and Intergovernmental Relations | Advisor for Intergovernmental Relations | DU180042 | 02/02/2019
|  | Senior Advisor | DU170118 | 02/16/2019
| Office of Field Policy and Management | Special Assistant | DU180033 | 02/16/2019
| Office of Housing | Chief of Staff | DU180055 | 02/02/2019
| Office of Public Affairs | Press Secretary | DU180021 | 02/16/2019
| Office of the Deputy Secretary | Senior Executive Officer | DU190015 | 02/04/2019
DEPARTMENT OF JUSTICE | Office of Antitrust Division | Counsel | DJ170152 | 02/02/2019
| Office of the Associate Attorney General | Senior Counsel | DJ180139 | 02/08/2019
| Office of the Attorney General | Confidential Assistant | DJ180114 | 02/07/2019
|  | Special Assistant | DJ180101 | 02/28/2019
| Office of the Environment and Natural Resources Division | Chief of Staff and Counsel | DJ180032 | 02/12/2019
DEPARTMENT OF LABOR | Office of the Secretary | Counsel to the Secretary | DL170059 | 02/16/2019
ENVIRONMENTAL PROTECTION AGENCY | Office of Public Affairs | Press Secretary Deputy Associate Administrator for State and Regional Affairs | EP180006 EP170085 | 02/02/2019 02/16/2019
| Office of the Assistant Administrator for Land and Emergency Management | Senior Advisor to the Administrator for Land and Emergency Management | EP170067 | 02/16/2019
| Office of the Associate Administrator for Congressional and Intergovernmental Relations | Deputy Associate Administrator for Congressional Relations | EP170053 | 02/15/2019
FEDERAL MINE SAFETY AND HEALTH REVIEW COMMISSION | Federal Mine Safety and Health Review Commission | Confidential Assistant | FR180002 | 02/22/2019
GENERAL SERVICES ADMINISTRATION | Office of Congressional and Intergovernmental Affairs | Communications Advisor | GS170044 | 02/02/2019
SMALL BUSINESS ADMINISTRATION | Office of the Administrator | White House Liaison | SB180038 | 02/23/2019

Authority: 5 U.S.C. 3301 and 3302; E.O. 10577, 3 CFR, 1954-1958 Comp., p. 218.

Office of Personnel Management.
Alexys Stanley,
Regulatory Affairs Analyst.

[FR Doc. 2019-13939 Filed 6-28-19; 8:45 am]

BILLING CODE 6325-39-P